NATIONAL LABOR RELATIONS BOARD

Appointments of Individuals to Serve as Members of Performance Review Boards

5 U.S.C. 4314(c)(4) requires that the appointments of individuals to serve as members of performance review boards be published in the Federal Register. Therefore, in compliance with this requirement, notice is hereby given that the individuals whose names and position titles appear below have been appointed to serve as members of performance review boards in the National Labor Relations Board for the rating year beginning October 1, 2004 and ending September 30, 2005.

Name and Title

Richard L. Ahearn—Regional Director, Region 19

Frank V. Battle—Deputy Director of Administration

John F. Colwell—Chief Counsel to Board Member

Harold J. Datz—Chief Counsel to the Chairman

John H. Ferguson—Associate General Counsel, Enforcement Litigation

Terence Flynn—Chief Counsel to Board Member

Robert A. Giannasi—Chief Administrative Law Judge

Lester A. Heltzer—Executive Secretary

John E. Higgins—Deputy General Counsel

Peter B. Hoffman—Regional Director, Region 34

Gloria Joseph—Director of Administration

Barry J. Kearney—Associate General Counsel, Advice

David B. Parker—Deputy Executive Secretary

Gary W. Shinners—Chief Counsel to Board Member

Richard A. Siegel—Associate General Counsel, Operations-Management

Lafe E. Solomon—Director, Office of Representation Appeals

Peter D. Winkler—Chief Counsel to Board Member

Dated: November 10, 2005.
By Direction of the Board.
Lester A. Heltzer,
Executive Secretary.

[FR Doc. 05-22669 Filed 11-15-05; 8:45 am]

BILLING CODE 7545-01-M